FEDERAL MARITIME COMMISSION

Ocean Transportation Intermediary License; Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, D.C. 20573.

Non-Vessel Operating Common Carrier Ocean Transportation Intermediary Applicants:

SHJ Int'l Express, LLC, 4339 Rowland Avenue, El Monte, CA 91731, Officers: Gary Yenkok Tan, Secretary, (Qualifying Individual), David Hsueh Wei Loo, President

Zust Ambrosetti SPA, Via Monteponi 26, 10135 Torino, Italy, Officer: Guido Porta, Director, (Qualifying Individual)

Delmas, 1 Gual Colbert, 76080 Le Harve France, Officer: Bernard Lugez, Vice President, (Qualifying Individual)

Non-Vessel Operating Common Carrier and Ocean Freight Forwarder Transportation Intermediary Applicants:

Supply Chaw Services, LLC, 1250 Scottsville Road, Suite 7, Rochester, NY 14534, Officers: Thomas Hardenbrook Iuppa, President, (Qualifying Individual), James H. Wigton, Vice President

Global Cargo Corp., 8470 NW 30th Terrace, Miami, FL 33122, Officer: Patricia T. Suizu, Secretary, (Qualifying Individual)

General Express Group, Corp., 11455 NW 34th Street, Miami, FL 33178, Officers: Alejandro Orsini, President, (Qualifying Individual), Pedro Barreto, Vice President

Dated: July 28, 2000.
Bryant L. VanBrakle,
Secretary.

[FR Doc. 00-19582 Filed 8-1-00; 8:45 am]

BILLING CODE 6730-01-P